DEPARTMENT OF DEFENSE

Office of the Secretary

Uniform Formulary Beneficiary Advisory Panel; Notice of Federal Advisory Committee Meeting

AGENCY: Under Secretary of Defense for Personnel and Readiness, Department of Defense (DoD).

ACTION: Notice of Federal advisory committee meeting.

SUMMARY: The DoD is publishing this notice to announce that the following Federal advisory committee meeting of the Uniform Formulary Beneficiary Advisory Panel (UFBAP) was held on Wednesday, April 3, 2024.

DATES: Open to the public Wednesday, April 3, 2024, from 10:00 a.m. to 1:00 p.m. eastern standard time.

ADDRESSES: The meeting was held telephonically or via conference call. The phone number for the remote access on April 3, 2024, was CONUS: 1-888-831-4306; OCONUS: 1-210-234-8694; PARTICIPANT CODE: 9136304.

These numbers and the dial-in instructions were posted on the UFBAP website at: https://www.health.mil/Military-Health-Topics/Access-Cost-Quality-and-Safety/Pharmacy-Operations/BAP.

FOR FURTHER INFORMATION CONTACT: Designated Federal Officer (DFO) Colonel (COL) Paul B. Carby, USA, 703-681-2890 (voice), dha.ncr.j-6.mbx.baprequests@health.mil (email). Mailing address is 7700 Arlington Boulevard, Suite 5101, Falls Church, VA 22042-5101. Website: https://www.health.mil/Military-Health-Topics/Access-Cost-Quality-and-Safety/Pharmacy-Operations/BAP. The most up-to-date changes to the meeting agenda can be found on the website.

SUPPLEMENTARY INFORMATION: Due to circumstances beyond the control of the DFO, the UFBAP was unable to provide public notification required by 41 CFR 102-3.150(a) concerning its April 3, 2024 meeting. Accordingly, the Advisory Committee Management Officer for the DoD, pursuant to 41 CFR 102-3.150(b), waives the 15-calendar day notification requirement.

This meeting was held under the provisions of chapter 10 of title 5 United States Code (U.S.C.) (commonly known as the “Federal Advisory Committee Act” or “FACA”), 5 U.S.C. 552b (commonly known as the “Government in the Sunshine Act”) and 41 CFR 102-3.140 and 102-3.150.

Purpose of the Meeting: The UFBAP reviewed and commented on recommendations made by the Pharmacy and Therapeutics Committee to the Director, Defense Health Agency regarding the Uniform Formulary.

Agenda:

1. 10:00 a.m.-10:10 a.m. Sign In for UFBAP members

2. 10:10 a.m.-10:40 a.m. Welcome and Opening Remarks

a. Welcome, Opening Remarks, and Introduction of UFBAP Members by COL Paul B. Carby, DFO, UFBAP

b. Public Written Comments by COL Paul B. Carby, DFO, UFBAP

c. Opening Remarks by Mr. Jon Ostrowski, UFBAP Chair

d. Introductory Remarks by Dr. Edward Vonberg, Chief, Formulary Management Branch

3. 10:40 a.m.-11:45 a.m. Scheduled Therapeutic Class Reviews

4. 11:45 a.m.-12:30 p.m. Newly Approved Drugs Review

5. 12:30 p.m.-12:45 p.m. Pertinent Utilization Management Issues

6. 12:45 p.m.-1:00 p.m. Closing remarks

a. Closing Remarks by UFBAP Co-Chair

b. Closing Remarks by DFO, UFBAP

Meeting Accessibility: Pursuant to 5 U.S.C. 1009(a)(1) and 41 CFR 102-3.140 through 102-3.165, and subject to the availability of phone lines, this meeting was open to the public. Telephone lines were limited and available to the first 220 people dialing in. There were 220 lines total: 200 domestic and 20 international, including leader lines.

Written Statements: Pursuant to 41 CFR 102-3.105(j) and 102-3.140(c), and 5 U.S.C. 1009(a)(3), interested persons or organizations may submit written statements to the UFBAP about its mission and/or the agenda to be addressed in this public meeting. Written statements should be submitted to the UFBAP's DFO. The DFO's contact information can be found in the FOR FURTHER INFORMATION CONTACT section of this notice. Written comments or statements must be received by the UFBAP's DFO so they may be made available to the UFBAP for its consideration. Written comments received are releasable to the public. The DFO will review all submitted written statements and provide copies to UFBAP.

Dated: April 3, 2024.
Aaron T. Siegel,
Alternate OSD Federal Register Liaison Officer, Department of Defense.

[FR Doc. 2024-07521 Filed 4-9-24; 8:45 am]

BILLING CODE 6001-FR-P